NATIONAL AERONAUTICS AND SPACE ADMINISTRATION

[01-147]

Proposed Collection; Comment Request

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This information collection is utilized by NASA procurement and technical personnel in the management of contracts valued at less than $500K.

DATES: All comments should be submitted within 60 calendar days from the date of this publication.

ADDRESSES: All comments should be addressed to Mr. Paul Brundage, Code HK, National Aeronautics and Space Administration, Washington, DC 20546-0001.

FOR FURTHER INFORMATION CONTACT: Ms. Nancy Kaplan, NASA Reports Officer, (202) 358-1372.

Title: NASA Acquisition Process—Reports Required On Contracts Valued at Less Than $500K.

OMB Number: 2700-0088.

Type of review: Extension.

Need and Uses: Information is used by NASA procurement and technical personnel in the management of contracts. Collection is prescribed in the NASA Federal Acquisition Regulation Supplement and approved mission statements.

Affected Public: Business or other for-profit; Not-for-profit institutions; State, Local or Tribal Government.

Number of Respondents: 1,282.

Responses Per Respondent: 30.

Annual Responses: 38,460.

Hours Per Request: 27 1/2 hrs.

Annual Burden Hours: 1,065,600.

Frequency of Report: On occasion.

David B. Nelson,
Deputy Chief Information Officer, Office of the Administrator.

[FR Doc. 01-28845 Filed 11-16-01; 8:45 am]

BILLING CODE 7510-01-P